DEPARTMENT OF TRANSPORTATION

Federal Highway Administration

Notice of Final Federal Agency Actions on Proposed Highway in Washington

AGENCY: Federal Highway Administration (FHWA), DOT.

ACTION: Notice of limitation on claims for judicial review of actions by FHWA.

SUMMARY: This notice announces actions taken by the FHWA and other Federal agencies that are final within the meaning of 23 U.S.C. 139(l)(1). These actions relate to a proposed highway project, the State Route (SR) 99 Alaskan Way Viaduct Replacement Project, in the State of Washington. These actions provide approval for the project.

DATES: By this notice, the FHWA is advising the public of final agency actions subject to 23 U.S.C. 139(l)(1). A claim seeking judicial review of the Federal agency action on the highway project will be barred unless the claim is filed on or before February 27, 2012. If the Federal law that authorizes judicial review of a claim provides a time period of less than 180 days for filing such claim, then that shorter time period still applies.

FOR FURTHER INFORMATION CONTACT: Randy Everett, Major Project Oversight Manager, Federal Highway Administration, Jackson Federal Building, 915 2nd Avenue, Room 3142, Seattle, WA 98104; telephone: (206) 220-7538; and e-mail: Randolph.Everett@.dot.gov. The FHWA Washington Division's Oversight Manager's regular office hours are between 8 a.m. and 4:30 p.m. (Pacific Time). You may also contact Allison Hanson, ESO Mega Projects Director, WSDOT Alaskan Way Viaduct Office, 999 Third Ave., Ste. 2200, Seattle, WA 98104; telephone: (206) 805-2880; and e-mail: HansonA@wsdot.wa.gov. The AWV Project's regular office hours are between 8 a.m. and 5 p.m. (Pacific Time).

SUPPLEMENTARY INFORMATION: Notice is hereby given that the FHWA has taken final agency action by issuing approval for the following highway project: to replace the Alaskan Way Viaduct between S. Royal Brougham Way and Roy Street because it is seismically vulnerable and at the end of its useful life.

The four main components of the bored tunnel alternative include:

• Replacement of SR 99 between S. Royal Brougham Way and Roy Street with two lanes in each direction.

• Full northbound and southbound access to and from SR 99 via ramp connections at the tunnels' south portal north of S. Royal Brougham Way and the tunnels' north portal near Harrison and Republican Streets.

• Demolition of the existing viaduct along the Seattle waterfront.

• Decommissioning of the Battery Street Tunnel.

The action by the FHWA on this project, and the laws under which such action was taken, are described in the March 2004 Draft Environmental Impact Statement (DEIS), the July 2006 Supplemental Draft EIS, the October 2010 Supplemental Draft EIS, July 2011 Final Environmental Impact Statement (Final EIS), August 2011 Record of Decision (ROD), and in other documents in the FHWA administrative record for the project. The Draft EIS, both Supplemental EIS's, Final EIS, ROD and other supporting documents in the FHWA administrative record are available by contacting the FHWA or the Washington State Department of Transportation at the addresses provided above. The Draft EIS, both Supplemental EIS's, Final EIS and ROD can be viewed and downloaded from the project Web site at http://www.alaskanwayviaduct.org or viewed at several libraries as well as local neighborhood service centers in the project area. A complete list of the library branches and local neighborhood service centers is included in the Final EIS.

This notice applies to all Federal agency decisions on the project as of the issuance date of this notice and all laws, as amended under which such actions were taken, including but not limited to:

1. General: National Environmental Policy Act [42 U.S.C. 4321-4347]; Federal-Aid Highway Act [23 U.S.C. 109].

2. Air: Clean Air Act, as amended [42 U.S.C. 7401-7671(q)].

3. Land: Section 4(f) of the Department of Transportation Act of 1966 [23 U.S.C. 138 and 49 U.S.C. 303].

4. Wildlife: Endangered Species Act [16 U.S.C. 1531-1544]; Section 7 of the Endangered Species Act [16 U.S.C. 1536]; Anadromous Fish Conservation Act [16 U.S.C. 757(a)-757(f)]; Fish and Wildlife Coordination Act [16 U.S.C. 661-667(e)]; Magnuson-Stevenson Fishery Conservation and Management Act of 1976, as amended [16 U.S.C. 1801 et seq.].

5. Historic and Cultural Resources: Section 106 of the National Historic Preservation Act of 1966, as amended [16 U.S.C. 470 f].

6. Social and Economic: Civil Rights Act of 1964 [42 U.S.C. 2000(d)-2000(d)(1)]; American Indian Religious Freedom Act [42 U.S.C. 1996].

7. Wetlands and Water Resources: Clean Water Act, 33 U.S.C. 1251-1377 (Section 319); Land and Water Conservation Fund [16 U.S.C. 460l-4-460l-114]; Safe Drinking Water Act [42 U.S.C. 300f-300j-6].

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: August 22, 2011.
Daniel M. Mathis,
Division Administrator, Olympia, Washington.

[FR Doc. 2011-21965 Filed 8-26-11; 8:45 am]

BILLING CODE 4910-RY-P